DEPARTMENT OF COMMERCE

International Trade Administration

[A-475-818]

Certain Pasta from Italy: Extension of Final Results of Antidumping Duty Administrative Review

AGENCY: Import Administration, International Trade Administration, Department of Commerce.

EFFECTIVE DATE: November 22, 2006.

FOR FURTHER INFORMATION CONTACT: Dennis McClure or Preeti Tolani, AD/CVD Operations, Office 3, Import Administration, International Trade Administration, U.S. Department of Commerce, 14th Street and Constitution Ave, NW, Washington, DC 20230: (202) 482-5973 or (202) 482-0395, respectively.

SUPPLEMENTARY INFORMATION:

Statutory Time Limits

Section 751(a)(3)(A) of the Tariff Act of 1930, as amended (the Act), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results. See also 19 CFR 351.213(h)(2).

Background

On August 29, 2005, the Department published a notice of initiation of the administrative review of the antidumping duty order on certain pasta from Italy, covering the period July 1, 2004 to June 30, 2005. See Initiation of Antidumping and Countervailing Duty Administrative Reviews and Requests for Revocation in Part, 70 FR 51009 (August 29, 2005). On March 16, 2006, the Department extended the preliminary results of the review by 45 days. See Certain Pasta from Italy: Extension of Time Limits for the Preliminary Results of Antidumping Duty Administrative Review, 71 FR 13584 (March 16, 2006). On May 23, 2006, the Department extended the preliminary results of the review by an additional 75 days. See Certain Pasta from Italy: Extension of Time Limits for the Preliminary Results of the Antidumping Duty Administrative Review, 71 FR 29615 (May 23, 2006). On August 8, 2006, the Department published the preliminary results of its review. See Notice of Preliminary Results and Partial Rescission of Antidumping Duty Administrative Review: Ninth Administrative Review of the Antidumping Duty Order on Certain Pasta from Italy, 71 FR 45017 (August 8, 2006). The final results of this review are currently due no later than December 6, 2006.

Extension of Final Results of Reviews

We determine that it is not practicable to complete the final results of this review within the original time limit because the Department needs additional time to review and analyze the information gathered at Atar S.r.L.'s sales verification. Therefore, we are fully extending the deadline for the final results of the above-referenced review until February 4, 2007. However, because February 4 falls on a Sunday, the deadline for completion of the final results is February 5, 2007, the next business day.

This extension is in accordance with sections 751(a)(3)(A) and 777(i) of the Act and 19 CFR 351.213(h)(2).

Dated: November 16, 2006.
Stephen J. Claeys,
Deputy Assistant Secretary for Import Administration.

[FR Doc. E6-19766 Filed 11-21-06; 8:45 am]

BILLING CODE 3510-DS-S